DEPARTMENT OF TRANSPORTATION

Maritime Administration

[Docket No. MARAD-2019-0093]

Deepwater Port License Application: Texas GulfLink LLC (GulfLink)—Special Notice

AGENCY: Maritime Administration, Department of Transportation.

ACTION: Notice.

SUMMARY: The Maritime Administration (MARAD) is providing notice to the public of the delay in issuing the Record of Decision for the proposed Texas GulfLink Deepwater Port, as the agency continues to process and consider public submissions on the proposed project.

FOR FURTHER INFORMATION CONTACT: Brian Barton, Office of Deepwater Ports and Port Conveyance, MARAD, telephone: 202-366-4610, email: Deepwater.Ports@dot.gov.

SUPPLEMENTARY INFORMATION: Under section 5(k) of the Deepwater Port Act of 1974 (DWPA) (33 U.S.C. 1504(k)), MARAD is required to publish a written statement in the Federal Register regarding delays in the processing of applications for oil or natural gas terminals licensed under the DWPA. On May 30, 2019, MARAD and the U.S. Coast Guard (USCG) received a license application from GulfLink for all Federal authorizations required for a license to construct, own, and operate a deepwater port for the export of oil in the Gulf of Mexico off the coast of Brazoria County, TX. A Notice of Application summarizing and providing further information regarding the GulfLink Deepwater Port License application was published in the Federal Register on June 26, 2019 (84 FR 30298). After extensive public and interagency review, a Final Environmental Impact Statement (FEIS) was published on July 5, 2024, and the final public hearing was held on September 13, 2024. Over 44,000 public submissions on the FEIS and final public hearing were received in the TGL docket number MARAD-2019-0093 at Regulations.gov. MARAD is still reviewing and considering the comments received and issuance of a Record of Decision is therefore delayed. The applicable deadline for issuance of the Record of Decision is set forth in DWPA section 5(i)(1) (33 U.S.C. 1504(i)(1)). This ongoing review will ensure that all substantive public comments are considered and that the information, data, and viewpoints received during this phase of the project review are fully assessed and evaluated before MARAD renders a final decision.

Privacy Act

Anyone can search the electronic form of all comments received into any of our dockets by the name of the individual submitting the comment (or signing the comment if submitted on behalf of an association, business, labor union, etc.). For information on DOT's compliance with the Privacy Act, visit www.transportation.gov/privacy.

(Authority: DWPA, Pub. L. 93-627 (33 U.S.C. 1501 et seq.); 49 CFR 1.93(h))

By Order of the Maritime Administrator.
T. Mitchell Hudson, Jr.,
Secretary, Maritime Administration.

[FR Doc. 2024-30974 Filed 12-27-24; 8:45 am]

BILLING CODE 4910-81-P